DEPARTMENT OF THE INTERIOR

National Park Service

Notice of Inventory Completion: Alutiiq Museum and Archaeological Repository, Kodiak, AK

AGENCY: National Park Service, Interior.

ACTION: Notice.

Notice is here given in accordance with the Native American Graves Protection and Repatriation Act (NAGPRA), 25 U.S.C. 3003, of the completion of an inventory of human remains in the possession of Alutiiq Museum and Archaeological Repository, Kodiak, AK. The human remains were removed from the area of Harvester Island in the Kodiak Island archipelago, AK.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Alutiiq Museum and Archaeological Repository professional staff in consultation with representatives of Koniag, Inc. and Native Village of Larsen Bay.

In the 1970s or 1980s, human remains representing a minimum of one individual were removed from the Harvester Island area of Uyak Bay, in the Kodiak archipelago, AK. The cranium was painted yellow at some point after collection. In June 2006, the cranium was mailed anonymously to the Alutiiq Museum and Archaeological Repository with a note that it was collected “on or around Harvester Island.” No known individual was identified. No associated funerary objects are present.

Harvester Island lies at the mouth of Uyak Bay on southwestern Kodiak Island, is privately owned, and is not known to hold any archeological sites. However, 49-KAR-00025, a site on the mainland shore of Uyak Bay directly adjacent to Harvester Island, is a large prehistoric village site known to have contained burial features with preserved human remains from both the Kachemak and Koniag traditions. In the 1960s, the 49-KAR-00025 site started eroding badly and depositing materials on the adjacent beach. It is uncertain where the human remains from the “Harvester Island area” were collected, but are most likely from the 49-KAR-00025 site. The human remains are reasonably believed to be Native American and most closely related to the Kodiak Alutiiq people. Specifically, the human remains are from an area traditionally used by members of Koniag, Inc. and Native Village of Larsen Bay.

Officials of the Alutiiq Museum and Archaeological Repository have determined that, pursuant to 25 U.S.C. 3001 (9-10), the human remains described above represent the physical remains of one individual of Native American ancestry. Officials of the Alutiiq Museum and Archaeological Repository also have determined that, pursuant to 25 U.S.C. 3001 (2), there is a relationship of shared group identity that can be reasonably traced between the Native American human remains and Koniag, Inc. and Native Village of Larsen Bay.

Representatives of any other Indian tribe that believes itself to be culturally affiliated with the human remains should contact Dr. Sven Haakanson, Jr., Executive Director, Alutiiq Museum and Archaeological Repository, 215 Mission Rd., Suite 101, Kodiak, AK 99615, telephone (907) 486-7004, before September 24, 2007. Repatriation of the human remains to Koniag, Inc. and Native Village of Larsen Bay may proceed after that date if no additional claimants come forward.

Alutiiq Museum and Archaeological Repository is responsible for notifying Koniag, Inc. and Native Village of Larsen Bay that this notice has been published.

Dated: August 6, 2007
Sherry Hutt,
Manager, National NAGPRA Program.

[FR Doc. E7-16777 Filed 8-23-07; 8:45 am]

BILLING CODE 4312-50-S